ENVIRONMENTAL PROTECTION AGENCY

[EPA-HQ-OPP-2017-0007; FRL-9959-60]

Pesticide Product Registration; Receipt of Applications for New Uses

AGENCY: Environmental Protection Agency (EPA).

ACTION: Notice.

SUMMARY: EPA has received applications to register new uses of pesticide products containing currently registered active ingredients. Pursuant to the Federal Insecticide, Fungicide, and Rodenticide Act (FIFRA), EPA is hereby providing notice of receipt and opportunity to comment on these applications.

DATES: Comments must be received on or before May 10, 2017.

ADDRESSES: Submit your comments, identified by the Docket Identification (ID) Number and the EPA Registration Number of interest as shown in the body of this document by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Steve Knizner, Antimicrobials Division (AD) (7510P), main telephone number: (703) 305-7090; email address: ADFRNotices@epa.gov., Michael Goodis, Registration Division (RD) (7505P), main telephone number: (703) 305-7090; email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register new uses of pesticide products containing currently registered active ingredients. Pursuant to the provisions of FIFRA section 3(c)(4) (7 U.S.C. 136a(c)(4)), EPA is hereby providing notice of receipt and opportunity to comment on these applications.

1. EPA Registration Number: 55146-97, 55149-99. Docket ID number: EPA-HQ-OPP-2016-0754. Applicant: Nufarm Americas Inc., 4020 Aerial Center Parkway, Suite 101, Morrisville, NC 27545. Active ingredient: Oxytetracycline Calcium. Product type: Bactericide/Fungicide. Proposed use: Citrus Crop Group 10-10; citrus, dried pulp. Contact: RD.

2. EPA Registration Number: 66330-403, 66330-404. Docket ID number: EPA-HQ-OPP-2016-0519. Applicant: Arysta LifeScience North America LLC, 15401 Weston Parkway, Suite 150, Cary, NC 27513. Active ingredient: Kasugamycin. Product type: Bactericide/Fungicide. Proposed use: Stone Fruit, Subgroup 12-12A; walnut. Contact: RD.

3. EPA File Symbol: 79814-5. Docket ID number: EPA-HQ-OPP-2017-0063. Applicant: ICA Trinova, Inc., 1 Beavers Street, Suite B, Newnan, GA 30263. Product name: FruitGard®. Active ingredient: Sodium chlorite at 3.2%. Product Type: Antimicrobial. Proposed Use: End use Antimicrobial Product for use as a fungicide in post-harvest treatment of tomatoes and cucurbit vegetables. Contact: AD.

4. EPA Registration Numbers: 85777-1, 66222-184, 352-555, and 352-768. Docket ID Number: EPA-HQ-OPP-2016-0516. Applicants: DuPont Crop Protection, Stine-Haskell Research Center, P.O. Box 30, Newark, DE 19714-0030 and Makhteshim Agan of North America, Inc., (d/b/a ADAMA), 3120 Highwoods Blvd., Suite 10, Raleigh, NC 27604. Active ingredient: Rimsulfuron. Product Type: Herbicide. Proposed Uses: Citrus fruit group 10-10; Fescue and ryegrass grown for seed; Low growing berry subgroup 13-07H; Pome fruit group 11-10; Small vine climbing fruit subgroup 13-07F; Stone fruit group 12-12; Tree nut group 14-12; and Tuberous and corm subgroup 1C. Contact: RD.

Authority: 7 U.S.C. 136 et seq.

Dated: February 28, 2017.
Delores Barber,
Director, Information Technology & Resources Management Division, Office of Pesticide Programs.

[FR Doc. 2017-07146 Filed 4-7-17; 8:45 am]

BILLING CODE 6560-50-P